Title 3—

The President

Memorandum of March 10, 2010

Delegation of Certain Functions Under Section 204(c) of the United States-India Nuclear Cooperation Approval and Nonproliferation Enhancement Act (Public Law 110-369)

Memorandum for the Secretary of State

By the authority vested in me as President by the Constitution and the laws of the United States of America, including section 301 of title 3, United States Code, I hereby delegate to you the functions conferred upon the President by section 204(c) of the United States-India Nuclear Cooperation Approval and Nonproliferation Enhancement Act (Public Law 110-369).

You are authorized and directed to publish this memorandum in the Federal Register.

THE WHITE HOUSE,

WASHINGTON, March 10, 2010

[FR Doc. 2010-6363

Filed 3-19-10; 8:45 am]

Billing code 4710-10-P